DEPARTMENT OF AGRICULTURE

Forest Service

Rocky Mountain Region; Pikes Peak Ranger District, Pike National Forest, El Paso County, CO

AGENCY: Forest Service, USDA.

ACTION: Notice of availability of Draft Gold Camp Road Plan/Environmental Impact Statement.

SUMMARY: The Forest Service has prepared a Draft Plan/Environmental Impact Statement (EIS), which is available for public review. The Draft Plan/EIS analyzes the potential environmental impacts that may result from various management options for an 8.5-mile segment of a Forest Service road that has been closed for safety reasons since 1988. The objective of the management plan is to best accommodate public use and access to National Forest lands and nearby private in-holdings while maintaining public safety and the historic character of the road. The analysis is intended to accomplish the following: Inform the public of the proposed action and alternatives; address public comment received during the scoping period; disclose the direct, indirect, and cumulative environmental effects of the proposed actions and each of the alternatives; and indicate any irreversible commitment of resources that would result from implementation of the proposed action. The Forest Service's preferred alternative (Alternative E) is to restore and reopen a collapsed railroad tunnel and reopen the closed section of Gold Camp Road to one-way traffic. There would continue to be seasonal closure of the road from November 1 to April 1.

The Forest Service invites the public to comment on the Draft Plan/EIS. All comments received from individuals become part of the official public record. Requests for such comments will be handled in accordance with the Freedom of Information Act and the Council on Environmental Quality's National Environmental Policy Act regulations (40 CFR 1506.6(f)). Our practice is to make comments available for public review during regular business hours. Individual respondents may request that we withhold their home address from the record, which we will honor to the extent allowable by law. If a respondent wishes us to withhold his/her name and/or address, this must be stated prominently at the beginning of the comment.

Comment Period: Comments may be submitted in writing, orally, or through electronic means before March 15, 2005. Electronic comments may be submitted to http://www.fs.fed.us/r2/psicc/pp and follow the Gold Camp Road link. Acceptable formats for attachments are MS Word, text, PDF, or RTF. Written comments through the mail should be directed to: Gold Camp Road Project, Pikes Peak Ranger District, 601 S. Weber Street, Colorado Springs, CO 80903. In order to have administrative rights, you must provide substantive comments during this formal comment period. A Final Plan/Environmental Impact Statement will then be prepared and provided to the public for review.

Requesting Further Information: Individuals wishing copies of this Draft Plan/EIS for review should contact: Frank Landis, Supervisory Outdoor Recreation Planner, Pike National Forest, Pikes Peak Ranger District, 601 S. Weber St., Colorado Springs, CO 80903. The Draft Plan/EIS is also available on the Internet at http://www.fs.fed.us/r2/psicc/projects/gold_camp/ and at the Colorado libraries listed below:

Penrose Public Library, 20 N. Cascade Ave., Colorado Springs, CO 80903, 719-531-6333.

East Library, 5550 N. Union Blvd., Colorado Springs, CO 80918, 719-531-6333.

FOR FURTHER INFORMATION CONTACT: Frank Landis at the address listed above or by telephone at 719-477-4203.

Public Open Houses: Public open houses will be held during the comment period to solicit oral comments from the public. The dates and locations will be:

Date: Tuesday, February 15, 2005.

Time: 4 to 8 p.m.

Place: Cheyenne Mountain High School, 1200 Cresta Road, Colorado Springs, Colorado.

Date: Thursday, February 17, 2005.

Time: 5 to 7 p.m.

Place: City Hall, Bennett Avenue, Cripple Creek, Colorado.

SUPPLEMENTARY INFORMATION: On June 30, 2004, a notice was published in the Federal Register (69 FR 39401) announcing that the Forest Service intended to prepare an Environmental Impact Statement addressing the possible Federal action of preparing a plan for Gold Camp Road and inviting comments on the scope of the Environmental Impact Statement. Comments were received from April 12 through August 17, 2004 and were considered and are reflected in the Draft Plan/EIS made available for comment through this notice. This notice is provided pursuant to Forest Service regulations for implementing the National Environmental Policy Act of 1969 (40 CFR 1506.6).

Dated: January 6, 2005.
Robert J. Leaverton,
Forest Supervisor.

[FR Doc. 05-718 Filed 1-13-05; 8:45 am]

BILLING CODE 3410-11-P